DEPARTMENT OF TRANSPORTATION

Office of the Secretary

49 CFR Part 23

[Docket No. OST-97-2550]

RIN 2105-AD51

Participation by Disadvantaged Business Enterprise in Airport Concessions

AGENCY: Office of the Secretary, DOT.

ACTION: Supplemental Notice of Proposed Rulemaking; Extension of Comment Period.

SUMMARY: The Department of Transportation issued a supplemental notice of proposed rulemaking (SNPRM) on this subject on March 22, 2005. The comment period was scheduled to close June 20, 2005. In response to requests from car rental industry members and a trade association of disadvantaged business enterprises who work in airports, we are extending the comment period for 60 days.

DATES: Comments on the SNPRM must be received by August 19, 2005. Late-filed comments will be considered to the extent practicable.

ADDRESSES: Comments on this SNPRM should be filed with: the Docket Management System, U.S. Department of Transportation. Room PL-401, 400 Seventh Street, SW., Washington, DC 20590-0001. Please identify the docket number OST-97-2005 at the beginning of your comments. You may also submit comments through the Internet to http://dms.dot.gov. You may review the public docket containing comments to these proposed regulations in person in the Dockets Office between 9 a.m. and 5 p.m., Monday through Friday, except Federal holidays. The Dockets Office is on the plaza level of the NASSIF Building at the Department of Transportation at the above address. Also, you may review comments to the docket on the Internet at http://dms.dot.gov. Search by using the last set of digits in the docket number (i.e., 2550).

FOR FURTHER INFORMATION CONTACT: Robert C. Ashby, Deputy Assistant General Counsel for Regulation and Enforcement, Department of Transportation, 400 7th St., SW., Room 10424, Washington, DC 20590-0001. Telephone (202) 366-9310 (voice); (202) 755-7687 (TDD). E-mail bob.ashby@dot.gov.

SUPPLEMENTARY INFORMATION: In March 2005, the Department of Transportation (DOT) issued a final rule on the subject of disadvantaged business enterprise (DBE) in airport concessions. At the same time, we issued a supplemental notice of proposed rulemaking asking for additional comment on several issues, including size standards and the possibility of creating national (rather than airport-by-airport) DBE goals for car rental companies.

We received correspondence requesting a 60-day extension of the comment period on behalf of several car rental companies, including Hertz, Dollar/Thrifty, Vanguard, and Enterprise. The correspondence requested the additional time to permit the companies to review the SNPRM and develop their position on the complex issues involved. We understand they are particularly interested in further thinking about the national car rental goal concept mentioned in the SNPRM. In addition, we received correspondence from the Airport Minority Advisory Council (AMAC) requesting a similar extension.

We believe that such an extension would be helpful to the Department in determining next steps concerning size standards and car rental goal issues, and we do not believe that it would unduly delay any further rulemaking resulting from the SNPRM. Consequently, we are granting the requested 60-day extension.

Issued this 30th day of June, 2005, at Washington DC.
Jeffrey A. Rosen,
General Counsel.

[FR Doc. 05-14056 Filed 7-13-05; 1:11 pm]

BILLING CODE 4910-62-P